Proclamation 9237 of February 27, 2015

National Colorectal Cancer Awareness Month, 2015

By the President of the United States of America

A Proclamation

Colorectal cancer is the second leading cause of cancer deaths in the United States. This year, more than 130,000 Americans will be diagnosed with this cancer, and nearly 50,000 will die from it. Friends and loved ones will be taken from us too soon by this disease, and the pain of cancer will touch too many families. During National Colorectal Cancer Awareness Month, we recognize all those who have been affected by this disease, and we renew our commitment to a lifesaving endeavor: raising awareness of colorectal cancer and the importance of screening.

Colorectal cancer is often preventable, and early detection and treatment are critical. However, this disease does not always cause symptoms, and most colorectal cancer occurs in individuals with no family history. That is why it is crucial for people of all ages to discuss colorectal cancer with their health care providers and understand the recommendations for, and benefits of, screening. And, people between ages 50 and 75 should get regular screenings. Not only can testing save your life, it can also provide peace of mind to your family and loved ones. I encourage Americans to learn more about the risk factors and symptoms of colorectal cancer by visiting www.Cancer.gov.

Every American deserves health security, and that is why I fought so hard for the Affordable Care Act. Under the law, more families have access to quality, affordable health care, and most insurance plans are required to cover recommended preventive services without copays, including colorectal cancer screenings for adults over 50. Earlier this year, I also announced the Precision Medicine Initiative to accelerate the design and testing of treatments tailored to individual patients. This bold new effort aims to revolutionize how our Nation fights disease, and it brings us closer to curing cancer.

Even as we continue the urgent work of improving care, we cannot fill the void left in the lives of those who know the true anguish of colorectal cancer. This month, we honor the loved ones we have lost to this disease and those who battle it today. Let us stand with their families and all who are committed to advancing the fight against cancer through research, advocacy, and quality care. Together, we can build a future free from cancer in all its forms.

NOW, THEREFORE, I, BARACK OBAMA, President of the United States of America, by virtue of the authority vested in me by the Constitution and the laws of the United States, do hereby proclaim March 2015 as National Colorectal Cancer Awareness Month. I encourage all citizens, government agencies, private businesses, non-profit organizations, and other groups to join in activities that will increase awareness and prevention of colorectal cancer.

IN WITNESS WHEREOF, I have hereunto set my hand this twenty-seventh day of February, in the year of our Lord two thousand fifteen, and of the Independence of the United States of America the two hundred and thirty-ninth.

[FR Doc. 2015-04515

Filed 3-3-15; 11:15 am]

Billing code 3295-F5